DEPARTMENT OF ENERGY

National Nuclear Security Administration

Extension of Public Comment Period for the Draft Site-Wide Environmental Impact Statement for the Y-12 National Security Complex.

AGENCY: National Nuclear Security Administration, U.S. Department of Energy.

ACTION: Extension of Public Comment Period for the Draft Site-Wide Environmental Impact Statement for the Y-12 National Security Complex.

SUMMARY: On October 30, 2009, NNSA published a Notice of Availability and Public Hearings (74 FR 56189) for the Draft Site-Wide Environmental Impact Statement for the Y-12 National Security Complex (Draft Y-12 SWEIS, DOE/EIS-0387). That notice invited public comment on the Draft Y-12 SWEIS through January 4, 2010, and provided the schedule for 2 public hearings to receive comments on the Draft Y-12 SWEIS. NNSA has extended the public comment period through January 29, 2010.

DATES: The public comment period for the Draft Y-12 SWEIS is extended from January 4, 2010 to January 29, 2010. Comments received after that date will be considered to the extent practicable as the NNSA prepares the Final Y-12 SWEIS.

FOR FURTHER INFORMATION CONTACT: Written comments on the Draft Y-12 SWEIS, as well as requests for additional information and requests for copies of the Draft Y-12 SWEIS, should be directed to Ms. Pam Gorman, Y-12 SWEIS Document Manager, Y-12 Site Office, 800 Oak Ridge Turnpike, Suite A-500, Oak Ridge, TN 37830, or by telephone: 865-576-9903. Comments may also be submitted by facsimile to 865-483-2014, or by electronic mail to y12sweis.comments@tetratech.com. Please mark correspondence “Draft Y-12 SWEIS Comments.” Additional information on the Y-12 SWEIS may be found at http://www.y12sweis.com.

For general information regarding the DOE NEPA process contact: Ms. Carol M. Borgstrom, Director, Office of NEPA Policy and Compliance (GC-20), U.S. Department of Energy, 1000 Independence Avenue, SW., Washington, DC 20585, telephone 202- 586-4600, or leave a message at 1-800- 472-2756. Additional information regarding DOE NEPA activities and access to many of DOE's NEPA documents are available on the Internet through the DOE NEPA Web site at http://www.gc.energy.gov/NEPA.

SUPPLEMENTARY INFORMATION: On October 30, 2009, NNSA issued a Notice of Availability and Public Hearings (74 FR 56189) for the Draft Site-Wide Environmental Impact Statement for the Y-12 National Security Complex (Draft Y-12 SWEIS, DOE/EIS-0387). As originally announced in the NOA, DOE has conducted public hearings on the Draft Y-12 SWEIS in Oak Ridge, Tennessee on November 17-18, 2009. The original public comment period was to continue until January 4, 2010.

However, in response to public comments, DOE is extending the public scoping period until January 29, 2010. Comments received after that date will be considered to the extent practicable as the NNSA prepares the Final Y-12 SWEIS.

Issued in Washington, DC, on December 18, 2009.
Randal S. Scott,
Deputy Associate Administrator for Infrastructure and Environment, National Nuclear Security Administration.

[FR Doc. E9-30628 Filed 12-24-09; 8:45 am]

BILLING CODE P